ENVIRONMENTAL PROTECTION AGENCY

[EPA-HQ-OPP-2017-0008; FRL-9976-89]

Pesticide Product Registration; Receipt of Applications for New Uses

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before July 5, 2018.

ADDRESSES: Submit your comments, identified by the Docket Identification (ID) Number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Goodis, Registration Division (RD) (7505P), main telephone number: (703) 305-7090; email address: RDFRNotices@epa.gov, Anita Pease, Antimicrobials Division (AD) (7510P), main telephone number: (703) 305-7090; email address: ADFRNotices@epa.gov. The mailing address for each contact person is: Office of Pesticide Programs, Environmental Protection Agency, 1200 Pennsylvania Ave. NW, Washington, DC 20460-0001.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

New Uses

1. EPA Registration Number: 100-1270; 100-904. Docket ID number: EPA-HQ-OPP-2018-0088. Applicant: Interregional Research Project No. 4 (IR-4), Agricultural Experiment Station, Rutgers, The State University of New Jersey, 500 College Road East, Suite 201W, Princeton, NJ 08540. Active ingredient: Emamectin benzoate. Product type: Insecticide. Proposed Uses: Artichoke, globe; Herb subgroup 19A; Brassica, leafy greens, subgroup 4-16B; Celtuce; Cherry subgroup 12-12A; Fennel, Florence; Fruit, pome, group 11-10; Nut, tree, group 14-12; Vegetable, brassica, head and stem, group 5-16; Kohlrabi; Leafy greens subgroup 4-16A; Vegetable, leaf petiole subgroup 22B; and Vegetable, fruiting, group 8-10. Contact: RD.

2. EPA Registration Number: 100-1270; 100-904. Docket ID number: EPA-HQ-OPP-2018-0088. Applicant: Syngenta Crop Protection, LLC., P.O. Box 18300, Greensboro, NC 27419. Active ingredient: Emamectin benzoate. Product type: Insecticide. Proposed Uses: Vegetable, cucurbit, group 9. Contact: RD.

3. EPA Registration Number: 1258-843. Docket ID number: EPA-HQ-OPP-2018-0108. Applicant: Arch Chemicals Inc., 1200 Bluegrass Lakes Parkway, Alpharetta, GA 30004. Active ingredient: Sodium 2-pyridinethiol-1-oxide, CAS number 3811-73-2. Product type: Antimicrobial. Proposed use: Adhesives in paper towels. Contact: AD.

4. EPA Registration Numbers: 62719-21, 62719-684. Docket ID number: EPA-HQ-OPP-2018-0095. Applicant: Interregional Research Project #4 (IR-4), Rutgers, The State University of New Jersey, 500 College Road East, Suite 201 W, Princeton, NJ 08540. Active ingredient: Nitrapyrin. Product type: Herbicide. Proposed use: Vegetable, brassica, head and stem, group 5-16, Leaf petiole vegetable subgroup 22B, Vegetable, leafy, group 4-16, Vegetable, bulb, group 3-07, Fruit, citrus, group 10-10, Citrus, oil, and Citrus, dried pulp. Contact: RD.

5. EPA Registration Number: 62719-391, 62719-394, and 62719-578. Docket ID number: EPA-HQ-OPP-2018-0128. Applicant: Dow AgroSciences LLC, 9330 Zionsville Road 308/2E, Indianapolis, IN 46268-1054. Active ingredient: Pronamide (Propyzamide). Product type: Herbicide. Proposed uses: Bushberries in Crop Subgroup 13-07B; Caneberries in Crop Subgroup 13-07A; Cranberry and Low Growing Berries in Crop Subgroup 13-07H; Pome Fruits in Crop Group 11-10; Small Vine Climbing Fruits in Crop Subgroup 13-07F; and Stone Fruits in Crop Group 12-12. Contact: RD.

6. EPA File Symbol: 63838-16. Docket ID number: EPA-HQ-OPP-2018-0190. Applicant: Enviro Tech Chemical Services, Inc., 500 Winmoore Way, Modesto, CA 95358. Product Name: Enviro-Brom Tabs Active Ingredient: 2,2-Dibromo-3-nitrilpropionamide (95.6%). Product Type: Antimicrobial product used as a microbicide, bactericide, fungicide, algaecide and slimicide. Proposed Use: Non-food use to sanitize trench floor drains, troughs, pits, and wet/moist drain areas in the Dairy, Meat, Poultry and Food Processing industries. Contact: AD.

7. EPA Registration Numbers: 71711-16, 71711-20, 71711-21. Docket ID number: EPA-HQ-OPP-2018-0161. Applicant: Nichino America, INC., 4550 Linden Hill Road, Suite 501, Wilmington, DE 19808. Active ingredient: Buprofezin. Product type: Insecticide. Proposed use: Fig; Leafy greens subgroup 4-16A, except head lettuce and radicchio; Brassica, leafy greens, subgroup 4-16B; Vegetable, brassica, head and stem group 5-16; Leaf petiole vegetable subgroup 22B; Celtuce; Fennel, Florence; Kohlrabi; Tropical and subtropical, small fruit, edible peel, subgroup 23A; Tropical and subtropical, small fruit, inedible peel, subgroup 24A; Cottonseed subgroup 20C; Fruit, citrus, group 10-10; Fruit, stone, group 12-12, except apricot and peach; Fruit, small, vine climbing, except fuzzy kiwifruit, subgroup 13-07F; Nut, tree, group 14-12; and Greenhouse grown peppers. Contact: RD.

Authority: 7 U.S.C. 136 et seq.

Dated: May 1, 2018.
Delores Barber,
Director, Information Technology and Resources Management Division, Office of Pesticide Programs.

[FR Doc. 2018-11923 Filed 6-1-18; 8:45 am]

BILLING CODE 6560-50-P